GENERAL SERVICES ADMINISTRATION

41 CFR Parts 300-2, 302-3, and Ch. 302

[FTR Amendment 98]

RIN 3090-AG93

Federal Travel Regulation; Relocation Allowances

Correction

In rule document 01-27764 beginning on page 58194 in the issue of Tuesday, November 20, 2001, make the following corrections:

1. On page 58194, in the third column, in the table, under the heading “New part”, in the second line “302-” should read “302-2”.

§ 300-2.22 [Corrected]

2. On page 58195, in §300-2.22, in the third column of the table, in the second line “Subparts A, B, C, D, E, F and G” should read “Subparts B, C, D, E, F, and G.”

§ 302-3.101 [Corrected]

3. On page 58202, in §302-3.101, in Table B, in column 2, number 5, in the second line “301” should read “302”.

§302-3.228 [Corrected]

4. On page 58206, in the second column, “Subpart D” should read “Subpart D-Relocation Separation”.

5. On the same page, in the same column, “Overseas to U.S. Return for Separation” is an undesignated heading.

Subpart C [Corrected]

6. On page 58211, in the second column, under Subpart C, in the Table of Contents, “302-094.201” should read “ 302-4.201”.

§ 302-9.205 [Corrected]

7. On page 58229, in §302-9.205, in the first column, in the table, paragraph (b)(2), in the fifth line “or.” should read “or”.

§ 302-11.104 [Corrected]

8. On page 58234, in §302-11.104, in the first column, in the table, under the heading “Date” in the second line, “notified of the” should read “first notified of the”.

§ 302-17.8 [Corrected]

9. On page 58251, in the third column, in §302-17.8, “W=CMTR for Year 2F” should read “W=CMTR for Year 2”.

10. On the same page, in the same column, the equation should read

§ 302-17.10 [Corrected]

11. On page 58253, in the first column, in §302-17.10, in the table, “Spouse (if filing jointly...” should read “Spouse (if filing jointly¹”.

§ 302-17.13 [Corrected]

12. On page 58255, in §302-17.13, in Appendix C, in the fourth column of the table, “Married Filing jointly qulifying”, should read “Married Filing jointly qualifying”.

[FR Doc. C1-27764 Filed 2-14-02; 8:45 am]

BILLING CODE 1505-01-D